DEPARTMENT OF THE INTERIOR

Office of the Secretary

[A2407-014-004-065516; #O2412-014-004-047181.1; LLHQ210000]

Notice of Adoption of Categorical Exclusions Under Section 109 of the National Environmental Policy Act

AGENCY: Office of the Secretary, Interior.

ACTION: Notice.

SUMMARY: Under section 109 of the National Environmental Policy Act (NEPA), the Department of the Interior (Department) notifies the public about and documents the Bureau of Land Management's (BLM) adoption of 2 Department of the Navy (DON), 1 Department of Homeland Security (DHS), 1 U.S. Army Corps of Engineers (USACE), 28 Department of Energy (DOE), 1 Bureau of Indian Affairs (BIA), 1 Bureau of Reclamation (BOR), 8 National Park Service (NPS), 1 U.S. Fish and Wildlife Service (FWS), 5 U.S. Geological Survey (USGS), 1 Federal Highway Administration (FHWA), 4 Tennessee Valley Authority (TVA), 1 Animal and Plant Health Inspection Service (APHIS), 1 Farm Service Agency (FSA), 9 U.S. Forest Service (USFS), and 1 Rural Utility Service (RUS) categorical exclusions (CXs) for activities involving forest management, wildlife management, fire management, wild horse and burro management, recreation, minerals, realty, resource protection, and emergency management. In accordance with section 109, this notice identifies the types of actions for which the BLM will rely on the CXs, the considerations that the BLM will use in determining the applicability of the CXs, and the consultation between agencies on the use of the CXs, including application of extraordinary circumstances.

DATES: The BLM's adoption of the CXs described in this notice is effective September 2, 2025.

FOR FURTHER INFORMATION CONTACT: Amelia Savage, Senior Planning and Environmental Analyst, Division of Support, Planning and NEPA, alsavage@blm.gov, telephone (480) 307-8665.

SUPPLEMENTARY INFORMATION:

Background

Programs Background

1. Recreation

The BLM's Recreation Program supports and delivers a wide variety of recreational experiences, including, but not limited to, camping, hunting, fishing, hiking, horseback riding, off-highway vehicle driving, mountain biking, bird watching, and various winter sports. The program manages over 4,000 recreation sites and associated facilities, in addition to over 400 fee sites with standard and expanded amenities. An estimated 82 million visitors enjoy outdoor recreation on the BLM-managed public lands every year. The Recreation Program also supports the BLM's Travel and Transportation Management Program, which includes trails, roads, primitive roads, and associated parking lots and trail heads. The BLM's Recreation Program is similar to those managed by the USFS and the TVA. The BLM, USFS, and TVA recreation programs manage similar types of facilities, including roads, trails, parking areas, trailheads, picnic areas, viewpoints, campgrounds, and boat launch sites, and all three programs manage organized and commercial recreation activities through specific authorization and permit processes.

2. Minerals

The BLM's Energy and Minerals Programs manage the development of Federal minerals, including, but not limited to, oil and gas, coal, gold, copper, geothermal resources, and sand and gravel. The BLM seeks to find innovative methods to benefit the public by supporting local economies and providing dependable sources of domestic energy and minerals. Development of these energy and mineral resources economically benefit the Nation and the states and also provide sources of royalty revenue. The BLM manages the Federal Government's onshore subsurface mineral estate—about 700 million acres (30 percent of the United States)—for the benefit of the American public consistent with the Mineral Leasing Act of 1920, as amended, and other applicable statutes, including the Mineral Leasing Act for Acquired Lands, the Mining Law of 1872, the Geothermal Steam Act, and the Materials Act of 1947. It also regulates operations that develop Indian minerals.

3. Forest Management

The BLM manages close to 58 million acres of forest and woodlands across 12 Western States and Alaska. BLM forests are managed for sustained yield timber production under the Oregon and California Railroad Grant Lands Act of 1937 and the Federal Land Policy and Management Act of 1976 (FLPMA) for the 2.4 million acres in western Oregon, and under the multiple-use and sustained-yield principles of FLPMA for the balance of public lands. The BLM manages forests to maintain healthy forest ecosystems that provide ecosystem services such as clean water, fish and wildlife habitats, economic opportunities from recreational use, and the harvest of forest products. A significant management issue in many forest types is overly dense conditions that are susceptible to high-severity wildfire, insect epidemics, and sensitivity to drought. Thinning treatments to reduce crown fire potential have been proven effective at preventing the loss of forest while also maintaining key ecosystem and habitat components.

4. Wild Horse and Burro

The BLM manages and protects wild horses and burros on 26.9 million acres of public lands across 10 Western States under the Wild and Free-Roaming Horses and Burros Act of 1971 and as part of its mission to administer public lands for a variety of uses. The Wild Horse and Burro Program's goal is to manage healthy wild horses and burros on healthy public rangelands. This includes reducing overpopulation on rangelands through a variety of methods such as direct removal and fertility treatments. After being removed from the range, animals are adopted, sold, or placed into off-range pastures and corrals.

5. Wildlife

The BLM's Wildlife Program manages wildlife habitat to help ensure self-sustaining, abundant, and diverse populations of wildlife on public lands. In order to provide for the long-term conservation of wildlife resources, the BLM supports numerous habitat maintenance and restoration activities. BLM-managed lands are vital to thousands of mammal, reptile, avian, and amphibian species. Managing more wildlife habitat than any other Federal agency, the BLM's wildlife program helps ensure self-sustaining populations and a natural abundance and diversity of wildlife on public lands. Overall, the BLM manages habitat for more than 3,000 species of wildlife dispersed over some of the Nation's most ecologically diverse and unique habitats. In order to provide for the long-term protection of wildlife resources, the BLM supports numerous habitat conservation activities, many funded through partnerships with Federal, state, and nongovernmental organizations.

6. Fire Management

The BLM conducts a broad range of actions to protect the public, natural landscapes, wildlife habitat, recreational areas, and other values and resources. The primary goals of the BLM's Fire Management Program are to create resilient landscapes, fire adapted communities, and safe and effective wildfire response. These goals are accomplished by implementing strategies to minimize the impact of wildfires on communities, infrastructure, and resources; actively managing vegetation, including invasive species, to lower the threat of wildfires; and establishing lines of defense to improve the safety and the success of fire suppression efforts.

7. Rights-of-Way (ROW)

The BLM Lands and Realty Program processes applications for ROW or other land use authorizations that facilitate commercial, non-commercial, recreational, and other activities to ensure that the public lands are working landscapes managed for the use and enjoyment of current and future generations, including for communication sites, transmission lines, fiber optic infrastructure, and energy.

8. Resource Protection

The BLM's Wildlife and Cultural Heritage Programs manage wildlife habitat to help ensure self-sustaining, abundant, and diverse populations of wildlife on public and Tribal lands. These resources are important ensuring that current and future generations of American Indian and Alaska Native communities retain the ability to connect to their natural and cultural heritage.

9. Emergency Stabilization

The BLM takes planned and emergency actions to stabilize and prevent degradation to natural and cultural resources, to minimize threats to life and property resulting from the effects of fire and other emergencies, or to repair, replace, or construct physical improvements necessary to prevent degradation of land or resources.

National Environmental Policy Act (NEPA) and Categorical Exclusions (CXs)

NEPA, as amended, 42 U.S.C. 4321-4347, requires all Federal agencies to consider the potential environmental impact of their proposed actions before deciding whether and how to proceed in taking any major Federal action significantly affecting the quality of the human environment. 42 U.S.C. 4321, 4332. NEPA's aims are to ensure that agencies consider the potential environmental effects of their proposed actions in their decision-making processes and inform and involve the public in that process. 42 U.S.C. 4331.

Under NEPA, a Federal agency can establish CXs—categories of actions that normally do not have a significant effect on the human environment and therefore do not require preparation of an environmental assessment (EA) or an environmental impact statement (EIS). 42 U.S.C. 4336e(1). These CXs are listed in an agency's NEPA implementation procedures. In accordance with that agency's NEPA procedures, if the agency determines that a CX covers a proposed action, it then evaluates the proposed action to determine whether any extraordinary circumstances are present that indicate the normally excluded action may have a significant effect. If no extraordinary circumstances are present, the agency may apply the CX to the proposed action without preparing an EA or EIS. 42 U.S.C. 4336(a)(2).

Section 109 of NEPA, enacted as part of the Fiscal Responsibility Act of 2023, allows a Federal agency to “adopt” another agency's CX for a category of proposed agency actions. 42 U.S.C. 4336c. To adopt another agency's CX under section 109, the adopting agency must identify the relevant CX listed in another agency's (“establishing agency”) NEPA procedures that cover the adopting agency's category of proposed actions or related actions; consult with the establishing agency to ensure that the proposed adoption of the CX for the relevant category of actions is appropriate; identify to the public the CX that the adopting agency plans to use for its proposed actions; and document adoption of the CX. 42 U.S.C. 4336c. The initial documentation and notification of the BLM's planned adoption of these 65 CXs occurred on May 9, 2025, via BLM's National NEPA Register (https://eplanning.blm.gov/eplanning-ui/search?filterSearch=%7B″states″:%5B″G_NA″%5D,″offices″:null,″projectTypes″:%5B10%5D,″programs″:null,″years″:%5B″2025″%5D,″open″:false,″active″:false%7D). The BLM has prepared this notice to notify the public and describe how it has met applicable statutory requirements for the adoption of the 65 CXs, as described below, that are found at:

• 32 CFR 775.6(f)(39) and (40);

• 33 CFR 230.9(i);

• 10 CFR part 1021, subpart D, appendix B, paragraph B1.2, B1.8, B1.10, B1.12, B1.16, B1.17, B1.18, B1.19, B1.21, B1.26, B1.28, B1.29, B1.33, B1.34, B1.35, B3.1, B3.7, B4.11, B5.3, B5.5, B5.6, B5.15, B5.16, B6.1, B6.2, B6.4, B6.9 and B6.10;

• DHS Instruction Manual 023-01-001-01, Implementation of the National Environmental Policy Act (NEPA), appendix A, table 1, B3;

• 516 Departmental Manual (DM) 10.5(M)(5);

• 516 DM 14.5D(1);

• 516 DM 12.5 A(1), A(6), B(1), C(4), C(6), C(17), D(4) and D(5);

• 516 DM 8.5 B(5);

• 516 DM 9.5 (B), (F), (G), (I), and (K);

• 23 CFR 771.117(c)(28);

• 18 CFR part 1318, subpart C, appendix A, n. 16, 19, 30, and 31;

• 7 CFR 372.5(c)(1);

• 7 CFR 799.31(b)(4);

• 36 CFR 220.6(d)(4), (8), and (11); 36 CFR 220.6(e)(3), (6), (8), (19), (24) and (25); and

• 7 CFR 1970.54(c)(2).

Note that the CXs adopted from other DOI bureaus (BIA, BOR, FWS, NPS, and USGS) can also be found in the DOI Handbook of NEPA Implementing Procedures, Appendix 2 Bureau Categorical Exclusions.

The Department is adopting the following 65 CXs for use by the BLM.

Categorical Exclusions That Are Adopted

Department of the Navy (DON)

The BLM has identified the following DON CX, found at 32 CFR 775.6(f)(39), which applies to oil, gas, geothermal, and geophysical pre-lease exploration activities. The BLM intends to rely on the CX when authorizing, for example and without limitation, activities to explore for oil, gas, and geothermal resources prior to issuing a lease. This CX was previously adopted only for use with geothermal exploration actions (89 FR 28797, Apr. 19, 2024) and is now being adopted in whole.

The BLM has identified the following DON CX, found at 32 CFR 775.6(f)(40), which applies to installing devices to protect human or animal life. The BLM intends to rely on the CX when authorizing, for example and without limitation, fencing or gating at abandoned mines, surface mines, or other hazardous areas.

U.S. Army Corps of Engineers (USACE)

The BLM has identified the following USACE CX, found at 33 CFR 230.9(i), which applies to minor ROWs for access roads, boat ramps, and utilities. The BLM intends to rely on the CX when authorizing, for example and without limitation, ROWs for utilities, such as powerlines and pipelines and construction of minor boat ramps within the parameters of the CX.

Department of Energy (DOE)

The BLM has identified the following DOE CX, found at 10 CFR part 1021, subpart D, appendix B, paragraph B1.2, which applies to site training exercises and simulations. The BLM intends to rely on the CX when authorizing, for example and without limitation, training exercises related to military, fire, rescue, police, state, local and Federal agencies and other training exercises and simulations on BLM-managed lands within the parameters of the CX.

The BLM has identified the following DOE CX, found at 10 CFR part 1021, subpart D, appendix B, paragraph B1.8, which applies to screened water intake and outflow structures. The BLM intends to rely on this CX when authorizing, for example and without limitation, modifications to screened water intake and outflow structures, such as fish screens.

The BLM has identified the following DOE CX, found at 10 CFR part 1021, subpart D, appendix B, paragraph B1.10, which applies to onsite storage of activated material. Activated materials are radionuclides with short half-lives (days or weeks). BLM's intended use for the reliance on this CX include, but are not limited to, storage of activated material when discovered in the field.

The BLM has identified the following DOE CX, found at 10 CFR part 1021, subpart D, appendix B, paragraph B1.12, which applies to detonation or burning of explosives or propellants not consumed in testing. The BLM intends to rely on this CX when authorizing, for example and without limitation, outdoor detonation or burning of explosives or propellants when these items are found on BLM-managed lands.

The BLM has identified the following DOE CX, found at 10 CFR part 1021, subpart D, appendix B, paragraph B1.16, which applies to asbestos removal. The BLM intends to rely on the CX when removing asbestos from BLM-owned facilities, consistent with the parameters of the CX.

The BLM has identified the following DOE CX, found at 10 CFR part 1021, subpart D, appendix B, paragraph B1.17, which applies to polychlorinated biphenyl (PCB) removal. The BLM intends to rely on the CX when authorizing, for example and without limitation, removal of PCB from oil and gas well locations and disposal of the material at approved locations.

The BLM has identified the following DOE CX, found at 10 CFR part 1021, subpart D, appendix B, paragraph B1.18, which applies to water supply wells. The BLM intends to rely on the CX when authorizing, for example and without limitation, siting, construction, operation, and plugging and abandonment of new water supply wells within existing oil and gas fields or modification of existing water supply wells.

The BLM has identified the following DOE CX, found at 10 CFR part 1021, subpart D, appendix B, paragraph B1.19, which applies to microwave, meteorological, and radio towers. The BLM's realty program would rely on the CX when authorizing, for example and without limitation, siting, modification, operation, and removal of existing communications facilities and associated infrastructure. Additionally, the BLM may rely on this CX when authorizing new land uses that support the adjacent communications facilities. The BLM adopted this CX previously only for use with existing communication facilities (90 FR 4774, Jan. 16, 2025) and is now adopting it in whole.

The BLM has identified the following DOE CX, found at 10 CFR part 1021, subpart D, appendix B, paragraph B1.21, which applies to noise abatement. The BLM intends to rely on the CX when authorizing, for example and without limitation, mitigation in connection with permits for activities with noise effects that require noise abatement.

The BLM has identified the following DOE CX, found at 10 CFR part 1021, subpart D, appendix B, paragraph B1.26, which applies to small water treatment facilities of less than 250,000 gallons per day capacity. The BLM intends to rely on the CX when authorizing, for example and without limitation, wastewater and surface water treatment facilities with less than 250,000 gallons per day capacity consistent with the CX.

The BLM has identified the following DOE CX, found at 10 CFR part 1021, subpart D, appendix B, paragraph B1.28, which applies when placing a facility in an environmentally safe condition. The BLM intends to rely on the CX when authorizing, for example and without limitation, retrofitting facilities to ensure visitor safety consistent with the CX.

The BLM has identified the following DOE CX, found at 10 CFR part 1021, subpart D, appendix B, paragraph B1.29, which applies to disposal facilities for construction and demolition waste. The BLM intends to rely on the CX when authorizing, for example and without limitation, onsite burial of construction material associated with construction projects located on BLM-managed land, consistent with the CX text.

The BLM has identified the following DOE CX, found at 10 CFR part 1021, subpart D, appendix B, paragraph B1.33, which applies to stormwater runoff control. The BLM intends to rely on the CX when authorizing, for example and without limitation, stormwater control activities to reduce storm water runoff and maintain natural hydrology.

The BLM has identified the following DOE CX, found at 10 CFR part 1021, subpart D, appendix B, paragraph B1.34, which applies to lead-based paint containment, removal, and disposal. The BLM intends to rely on the CX when authorizing activities that contain, remove, and dispose of lead-based paint on BLM-managed facilities.

The BLM has identified the following DOE CX, found at 10 CFR part 1021, subpart D, appendix B, paragraph B1.35, which applies to drop-off, collection, and transfer facilities for recyclable materials. The BLM intends to rely on the CX when authorizing, for example and without limitation, installation of recycle stations in high use visitor areas to reduce the amount of waste from visitors.

The BLM has identified the following DOE CX, found at 10 CFR part 1021, subpart D, appendix B, paragraph B3.1, which applies to site characterization and environmental monitoring. The BLM intends to rely on the CX when authorizing, for example and without limitation, geological, geophysical, geochemical, and engineering surveys and mapping, the establishment of survey marks, and the drilling of wells for sampling of groundwater or monitoring of groundwater.

The BLM has identified the following DOE CX, found at 10 CFR part 1021, subpart D, appendix B, paragraph B3.7, which applies to new terrestrial infill exploratory and experimental wells. The BLM intends to rely on the CX when authorizing, for example and without limitation, installation of extraction or injection use wells within an existing field consistent with the parameters of the CX.

The BLM has identified the following DOE CX, found at 10 CFR part 1021, subpart D, appendix B, paragraph B4.11, which applies to electric power substations and interconnection facilities. The BLM intends to rely on the CX when authorizing, for example and without limitation, construction or modification of electric power substations or interconnection facilities.

The BLM has identified the following DOE CX, found at 10 CFR part 1021, subpart D, appendix B, paragraph B5.3, which applies to the modification or abandonment of wells. The BLM intends to rely on the CX when authorizing, for example and without limitation, plugging and abandonment of wells and modification of existing wells consistent with the parameters of the CX.

The BLM has identified the following DOE CX, found at 10 CFR part 1021, subpart D, appendix B, paragraph B5.5, which applies to short pipeline segments. The BLM intends to rely on the CX when authorizing, for example and without limitation, construction, operations, and abandonment of pipelines of 20 miles or less within previously disturbed or developed ROWs.

The BLM has identified the following DOE CX, found at 10 CFR part 1021, subpart D, appendix B, paragraph B5.6, which applies to oil spill cleanup. The BLM intends to rely on the CX when authorizing, for example and without limitation, removal and disposal of material contaminated by oil and other contaminated material from oil and gas facilities, ROWs, trespass actions, and other permits.

The BLM has identified the following DOE CX, found at 10 CFR part 1021, subpart D, appendix B, paragraph B5.15, which applies to small-scale renewable energy research and development and pilot projects. The BLM intends to rely on the CX when authorizing, for example and without limitation, small-scale research and design projects to test new renewable energy technology in previously disturbed or developed areas.

The BLM has identified the following DOE CX, found at 10 CFR part 1021, subpart D, appendix B, paragraph B5.16, which applies to solar photovoltaic systems. The BLM intends to rely on the CX when authorizing, for example and without limitation, installation of solar photovoltaic systems on or adjacent to existing facilities (i.e., recreation sites, fire annex buildings, and other BLM-owned facilities) and construction of solar photovoltaic systems on previously disturbed or developed lands. This CX was previously adopted only for installation of solar photovoltaic systems on or adjacent to existing facilities (90 FR 4774, Jan. 16, 2025), it is now being adopted in whole.

The BLM has identified the following DOE CX, found at 10 CFR part 1021, subpart D, appendix B, paragraph B6.1, which applies to cleanup actions. The BLM intends to rely on the CX when authorizing, for example and without limitation, small-scale, short-term cleanup actions to clean up materials left from the Cold War, military operations, and shooting sites. “Small scale,” as that term is used in the CX, is defined by DOE at 10 CFR part 1021, subpart D.

The BLM has identified the following DOE CX, found at 10 CFR part 1021, subpart D, appendix B, paragraph B6.2, which applies to waste collection, treatment, stabilization, and containment facilities. The BLM intends to rely on the CX when authorizing, for example and without limitation, siting, construction, and operation of temporary waste collection and treatment facilities.

The BLM has identified the following DOE CX, found at 10 CFR part 1021, subpart D, appendix B, paragraph B6.4, which applies to facilities for storing packaged hazardous waste for 90 days or less. The BLM intends to rely on the CX when authorizing, for example and without limitation, storage of packaged hazardous wastes for less than 90 days.

The BLM has identified the following DOE CX, found at 10 CFR part 1021, subpart D, appendix B, paragraph B6.9, which applies to temporary measures to reduce migration of contaminated groundwater. The BLM intends to rely on the CX when authorizing, for example and without limitation, temporary measures to reduce movement of groundwater contamination consistent with the CX parameters.

The BLM has identified the following DOE CX, found at 10 CFR part 1021, subpart D, appendix B, paragraph B6.10, which applies to small upgraded or replacement waste storage facilities. The BLM intends to rely on the CX when authorizing, for example and without limitation, siting, construction, modification, expansion, operation, and decommissioning of a small upgraded or replacement facility (less than approximately 50,000 square feet in area) within or contiguous to a previously disturbed or developed area (where active utilities and currently used roads are readily accessible) for storage of waste that is already at the site at the time the storage capacity is to be provided.

Several of these CXs refer to DOE best practices and protocols, which refer to conditions that DOE places on the conduct of work. These conditions are specific to the type and location of the project. “Best management practices” are not specified in the CXs because they change over time and vary by location and technology. The BLM would use their regulations, best management practices, and industry standards when using CXs that mention “best practices and protocols.”

Department of Homeland Security (DHS)

The BLM has identified the following DHS CX, found at DHS Instruction Manual 023-01-001-01, Implementation of the National Environmental Policy Act (NEPA), appendix A, table 1, B3, which applies to proposed activities and operations to be conducted in existing structures and upgrades to existing facilities. The BLM intends to rely on the CX when, for example and without limitation, issuing and renewing contracts for off-range pastures and corrals for wild horses and burros and making minimal, but necessary, upgrades that have no significant environmental impacts to these existing facilities.

Bureau of Indian Affairs (BIA)

The BLM has identified the following BIA CX, found at 516 DM 10.5(M)(5), which applies to the conversion of abandoned oil wells to water wells. The BLM intends to rely on the CX when authorizing activities to convert abandoned oil and gas wells to water wells.

Bureau of Reclamation (BOR)

The BLM has identified the following BOR CX, found at 516 DM 14.5 D(1), which applies to maintenance, rehabilitation, and replacement of existing facilities which may involve a minor change in size, location, and/or operation. Consistent with the CX text, the BLM intends to rely on the CX when, for example and without limitation, taking action to maintain, replace, or rehabilitate existing facilities, such as visitor centers, range improvement projects, fences, parking lots, culverts, roads, trails, and camp sites.

National Park Service (NPS)

The BLM has identified the following NPS CX, 516 DM 12.5 A(1), which applies to changes or amendments to an approved action. The BLM intends to rely on this CX when, for example and without limitation, modifying terms and conditions as appropriate to enhance safety or make other improvements to an ongoing operation, allowing a proposed use on a previously disturbed area, and approving surface disturbing sundry notices for oil and gas related actions where no environmental consequences will occur. This CX would not be used to make continuous changes to an action to circumvent a finding of significant impact or an extraordinary circumstance.

The BLM has identified the following NPS CX, 516 DM 12.5 A(6), which applies to the issuances, extensions, renewals, reissuances, or minor modifications of permits not entailing new construction. The BLM intends to rely on this CX when, for example and without limitation, issuing, extending, renewing, reissuing, and modifying special recreation permits or other authorizations that do not require construction.

The BLM has identified the following NPS CX, 516 DM 12.5 B(1), which applies to changes or amendments to an approved plan. The BLM intends to rely on this CX when making, for example and without limitation, changes to travel management plans, Areas of Critical Environmental Concern plans, allotment management plans or their functional equivalent, and resource plans where the changes result in no or minimal environmental impact. This CX would not be applied to Resource Management Plans and would not be used to make continuous changes to an action to circumvent a finding of significant impact.

The BLM has identified the following NPS CX, 516 DM 12.5 C(4), which applies to routine maintenance and repairs to cultural resource sites, structures, utilities, and grounds. The BLM intends to rely on this CX when authorizing, for example and without limitation, maintenance and repair of culture resource sites, including buildings and other structures, consistent with existing BLM guidance.

The BLM has identified the following NPS CX, 516 DM 12.5 C(6), which applies to the installation of navigation aids. The BLM intends to rely on this CX when, for example and without limitation, installing navigation aids on BLM-managed lands and waters as appropriate.

The BLM has identified the following NPS CX, 516 DM 12.5 C(17), which applies to the construction of minor structures in previously disturbed or developed areas. The BLM intends to rely on this CX when authorizing, for example and without limitation, construction of structures related to third-party permitted use, recreation facilities, and rangeland management in previously disturbed or developed areas.

The BLM has identified the following NPS CX, 516 DM 12.5 D(4), which applies to minor changes in programs and regulations pertaining to visitor activities. The BLM intends to rely on this CX when making, for example and without limitation, temporary closures, service availability schedules, program policy, rulemakings, or implementation plan adjustments, such as when closing a trail to the public to execute a trail improvement contract.

The BLM has identified the following NPS CX, 516 DM 12.5 D(5), which applies to the issuance of permits for demonstrations, gatherings, ceremonies, concerts, arts and crafts shows, etc. The BLM intends to rely on this CX when, for example and without limitation, issuing special recreation permits for demonstrations, gatherings, ceremonies, concerts, and arts and crafts shows, including events like a Tribal religious ceremony on public lands or community organized musical or artistic display of talent.

U.S. Fish and Wildlife Service (FWS)

The BLM has identified the following FWS CX, 516 DM 8.5 B(5), which applies to fire management activities, including prevention and restoration measures. The BLM intends to rely on this CX when, for example and without limitation, authorizing vegetation management activities by manual, mechanical, prescribed fire, chemical, biological, and planting methods.

U.S. Geological Survey (USGS)

The BLM has identified the following USGS CX, found at 516 DM 9.5(B), which applies to routine exploratory or observation groundwater well drilling operations. The BLM intends to rely on this CX when authorizing, for example and without limitation, collection of data for various resources, including, but not limited to, minerals and hydrologic and geologic resources.

The BLM has identified the following USGS CX, found at 516 DM 9.5(F), which applies to routine exploratory or observation groundwater well drilling operations. The BLM intends to rely on this CX when authorizing, for example and without limitation, drilling of groundwater wells to test for mineral density that are typically no deeper than 600 feet.

The BLM has identified the following USGS CX, found at 516 DM 9.5(G), which applies to test or exploration drilling and downhole testing. The BLM intends to rely on this CX when authorizing, for example and without limitation, exploratory drilling and downhole testing.

The BLM has identified the following USGS CX, found at 516 DM 9.5(I), which applies to digging and subsequent site restoration of exploratory trenches with no more than one acre of surface disturbance. The BLM intends to rely on this CX when authorizing, for example and without limitation, digging and trenching to explore for various resources with no more than one acre of surface disturbance.

The BLM has identified the following USGS CX, found at 516 DM 9.5(K), which applies to off-road travel to drilling, data collection or observation sites. The BLM intends to rely on this CX when undertaking or authorizing, for example and without limitation, off-road travel to drilling, data collection, or observation sites by truck, all-terrain vehicle, and utility terrain vehicle.

Federal Highway Administration (FHWA)

The BLM has identified the following FHWA CX, found at 23 CFR 771.117(c)(28), which applies to bridge rehabilitation, reconstruction, or replacement or at-grade railroad crossing replacement. Consistent with the CX text, the BLM intends to rely on the CX when rehabilitating, reconstructing, or replacing existing bridges or replacing at-grade railroad crossings.

The BLM would document the constraints outlined in 23 CFR 771.117(e)(1)-(6), which the BLM is also adopting as part of this CX. Those include: (1) An acquisition of more than a minor amount of ROW or that would result in any residential or non-residential displacements; (2) An action that needs a bridge permit from the U.S. Coast Guard, or an action that does not meet the terms and conditions of a U.S. Army Corps of Engineers nationwide or general permit under section 404 of the Clean Water Act and/or section 10 of the Rivers and Harbors Act of 1899; (3) An action where there is an associated finding of “adverse effect” to historic properties under the National Historic Preservation Act, or the use of a resource protected under 23 U.S.C. 138 or section 4(f) of the Department of Transportation (DOT) Act, 49 U.S.C. 303(f)(1), except for actions resulting in de minimis impacts, or a finding of “may affect, likely to adversely affect” threatened or endangered species or critical habitat under the Endangered Species Act (ESA); (4) Construction of temporary access or the closure of existing road, bridge, or ramps that would result in major traffic disruptions; (5) Changes in access control; (6) A floodplain encroachment other than functionally dependent uses (e.g., bridges, wetlands) or actions that facilitate open space use (e.g., recreational trails, bicycle, and pedestrian paths); or construction activities in, across or adjacent to a river component designated or proposed for inclusion in the National System of Wild and Scenic Rivers.

Consistent with FHWA's application, the BLM may still apply the CX even if the constraints in section 771.117(e)(1)-(6) are present, pursuant to section 771.117(d)(13), which the BLM is also adopting. Under that provision, the CX may be used if there is documentation that demonstrates that significant environmental effects will not result. Therefore, the BLM may rely on the CX if it can justify and clearly explain how the action fits within the category of actions the CX covers and there is a written explanation as to why no significant environmental impacts will result.

The BLM would not complete a review of the DOT Act section 4(f) requirements under the third criterion above when applying this CX to a BLM action on BLM-managed lands. Section 4(f) applies when the DOT approves a transportation program or project that uses section 4(f) property. The BLM is not required to make section 4(f) determinations. If the BLM applies this CX to a DOT project, then DOT's determination would be documented under the relevant criterion.

Tennessee Valley Authority (TVA)

The BLM has identified the following TVA CX, found at 18 CFR part 1318, subpart C, appendix A, n.16, which applies to construction of new 10-mile transmission line and construction of electric power substations or interconnection facilities. The BLM intends to rely on this CX when authorizing, for example and without limitation, construction of 10-mile transmission lines that do not authorize more than a 125-acre ROW and construction of 10-acre electric power substations or interconnection facilities.

The BLM has identified the following TVA CX, found at 18 CFR part 1318, subpart C, appendix A, n.19, which applies to removal of conductors and structures or cessation of ROW vegetation management when transmission infrastructure is retired and rebuilding transmission lines of 25 miles or less. The BLM intends to rely on this CX when authorizing removal of decommissioned transmission infrastructure and the rebuilding of transmission lines within or contiguous to existing ROWs of no more than 25 miles in length or 125-acre ROW expansion.

The BLM has identified the following TVA CX, found at 18 CFR part 1318, subpart C, appendix A, n.30, which applies to actions to maintain, restore, or enhance terrestrial ecosystems. The BLM intends to rely on this CX when authorizing, for example and without limitation, vegetation management through manual or mechanized methods (mastication, mowing, and mechanized thinning), prescribed fire, fencing, and habitat restoration on up to 125 acres.

The BLM has identified the following TVA CX, found at 18 CFR part 1318, subpart C, appendix A, n.31, which applies to forest management actions. The BLM intends to rely on this CX when authorizing, for example and without limitation, silvicultural thinning treatments to improve forest resilience to wildfire, insect, disease, and drought on up to 125 acres; manual, mechanized, or prescribed fire methods to thin trees; salvage harvest of dead and dying trees to reduce heavy fuels from tree mortality after severe wildfire, insect, or disease infestation, and storm damage on up to 250 acres; and site preparation and tree planting of native species on up to 125 acres.

Animal and Plant Health Inspection Service (APHIS)

The BLM has identified the following APHIS CX, found at 7 CFR 372.5(c)(1), which applies to routine measures, such as, inspections, surveys, sampling that does not cause physical alteration of the environment, testing, seizures, quarantines, removals, sanitizing, inoculations, control, and monitoring employed by agency programs to pursue their missions and functions. The BLM intends to rely on this CX when, for example and without limitation, applying hand-delivered and dart-delivered fertility control vaccines to reduce population growth of wild horses and burros on public rangelands. BLM's and APHIS's interpretation of part (C) of the CX, which provides that “[t]he use does not adversely affect any federally protected species or critical habitat,” is that it refers to species listed under the ESA.

Farm Service Agency (FSA)

The BLM has identified the following FSA CX, found at 7 CFR 799.31(b)(4) which applies to planting actions. The BLM intends to rely on this CX when authorizing, for example and without limitation, agricultural activities under 2920 permits where no new surface disturbance would occur.

U.S. Forest Service (USFS)

The BLM has identified the following USFS CX, found at 36 CFR 220.6(d)(4), which applies to the repair and maintenance of roads, trails, and landline boundaries. The BLM intends to rely on this CX when authorizing, for example and without limitation, actions that repair and maintain existing BLM roads and trails, such as hazardous tree removal, road resurfacing, removing brush along a trail, shaving cut banks, extending or replacing culverts, constructing rolling dips, changing road drainage, cleaning inside ditches, and increasing road turnouts or parking availability and access.

The BLM has identified the following USFS CX, found at 36 CFR 220.6(d)(8), which applies to the approval, modification, or continuation of minor, short-term, special uses (as defined by USFS Manual 2700). The BLM intends to rely on this CX when, for example and without limitation, issuing, renewing, or modifying special recreation permits, such as a long-distance endurance event that occurs once per year, permits under 43 CFR part 2920, and permits for other uses that are within the meaning of minor, short-term, special uses as that term and concept are used in the USFS Manual 2700.

The BLM has identified the following USFS CX, found at 36 CFR 220.6(d)(11), which applies to the issuance of a new special use authorization (as defined by USFS Manual 2700) to replace an existing or expired special use authorization when an administrative change is made. The BLM intends to rely on this CX when, for example and without limitation, replacing an existing or expired special recreation permit or permit for another use that is within the meaning of special use as that term and concept are used in the USFS Manual 2700.

The BLM has identified the following USFS CX, found at 36 CFR 220.6(e)(3), which applies to the approval, modification, or continuation of minor special uses of National Forest Service (NFS) lands that require less than 20 contiguous acres of land. The BLM intends to rely on this CX when authorizing, for example and without limitation, special recreation permits, ROWs (including communication sites), and permits under 43 CFR part 2920 of no greater than 20 acres on BLM-managed lands, consistent with the CX text. The specific activities that are allowed under this CX are those that fit within the meaning of special use as that term and concept are used the USFS Manual 2700.

The BLM has identified the following USFS CX, found at 36 CFR 220.6(e)(6), which applies to timber stand and wildlife habitat improvement activities, subject to limitations on the use of herbicides and road construction. The BLM intends to rely on this CX when authorizing, for example and without limitation, silvicultural thinning treatments to improve forest resilience to wildfire, insect, disease, and drought; forest structure and composition management using manual, mechanized, or prescribed fire methods; and prescribed fire to promote the vigor of desired species and reduction of fuel loads to reduce the risk of severe wildfire.

The BLM has identified the following USFS CX, found at 36 CFR 220.6(e)(8), which applies to mineral, energy, geophysical, and geothermal investigations of one year or less, involving no more than one mile of temporary road. The BLM intends to rely on this CX when authorizing, for example and without limitation, exploration operations and incidental support activities for various solid minerals, oil and gas, energy, and geophysical investigations that include up to one mile of temporary road and minor road repair. Covered activities would not include monitoring of reclamation, as monitoring does not require any surface disturbing activities or approval. This CX was previously adopted only for use with geothermal exploration actions (89 FR 28797, Apr. 19, 2024), it is now being adopted in whole.

The BLM has identified the following USFS CX, found at 36 CFR 220.6(e)(19), which applies to removing and relocating debris and sediment following a disturbance event. The BLM intends to rely on this CX when authorizing, for example and without limitation, removal and relocation of debris and sediment following a disturbance event from upland, wetland and riparian systems, consistent with the CX text.

The BLM has identified the following USFS CX, found at 36 CFR 220.6(e)(24), which applies to the construction and realignment of up to two miles of road and associated parking areas. The BLM intends to rely on this CX when authorizing, for example and without limitation, BLM road reconstruction and alignment of up to two miles and associated parking areas, including bridges.

The BLM has identified the following USFS CX, found at 36 CFR 220.6(e)(25), which applies to forest and grassland management activities. The BLM intends to rely on this CX when authorizing activities with the primary purpose of meeting restoration objectives or increasing resilience, including, for example and without limitation, vegetation management (manual, mechanized, or prescribed fire) or timber harvesting activities on up to 2,800 acres. Examples of ecological restoration objectives would be to restore resilient forest structure and composition where fire suppression has caused dense forest conditions susceptible to high severity wildfire or insect and disease epidemics. The BLM may include construction of up to 0.5 mile of permanent and 2.5 miles of temporary roads and repair and maintenance of NFS roads and trails, consistent with the CX text. The BLM would not rely on this CX for salvage harvests.

Consistent with 36 CFR 220.6(e), the USFS, when relying on these CXs, develops a supporting record and a decision memo. The documentation the BLM will develop when it relies on one of these adopted CXs will be similar to the USFS documentation and the BLM will publish the documentation on its publicly available National NEPA Register (https://eplanning.blm.gov/eplanning-ui/home).

Rural Utility Service (RUS)

The BLM has identified the following RUS CX, 7 CFR 1970.54(c)(2), which applies to electric power lines with nominal voltage. The BLM intends to rely on this CX when authorizing, for example and without limitation, powerlines of voltages no greater than 230kV within the parameters of the CX.

Consultations and Determination of Appropriateness

The BLM consulted with DON, USACE, DOE, DHS, BIA, BOR, NPS, FWS, USGS, FHWA, TVA, APHIS, FSA, USFS and RUS on the appropriateness of the adoption of the CXs for the BLM's use in October 2024 and March, April, and May 2025. The consultations included a review of agencies' experiences developing and applying the CXs, as well as the types of actions for which the BLM plans to rely on the CXs. The USFS and the BLM discussed the fact that USFS's and the BLM's authorized trails, roads, and associated land use authorizations are similar in type and scope. The other types of BLM actions are also similar in type and scope to the actions that agencies conduct in reliance on CXs. Therefore, the effects of the BLM's actions are expected to be similar to the effects of other agencies' actions, which are not significant, absent the presence of extraordinary circumstances that indicate potentially significant effects. The Department has determined that adoption of the CXs for the BLM's use as described in this notice is appropriate.

Consideration of Extraordinary Circumstances

In consultations with DON, USACE, DOE, DHS, BIA, BOR, NPS, FWS, USGS, FHWA, TVA, APHIS, FSA, USFS and RUS, the BLM evaluated the extraordinary circumstances to be considered when applying these CXs. When applying these CXs, Responsible Officials within the BLM will evaluate proposed actions covered by the CXs to determine whether any extraordinary circumstances are present. The Department's extraordinary circumstances are listed at 43 CFR 46.215 and include, in part, consideration of impacts on public health and safety; natural resources; unique geographic characteristics; historic or cultural resources; park, recreation, or refuge lands; wilderness areas; wild or scenic rivers; national natural landmarks; sole or principal drinking water aquifers; prime farmlands; wetlands; floodplains; national monuments; migratory birds; other ecologically significant or critical areas; unresolved conflicts concerning alternative uses of available resources; unique or unknown environmental risks; precedent for future decision-making; historic properties; listed species or critical habitat; access by Indian religious practitioners to, and for ceremonial use of, Indian sacred sites and the physical integrity of those sites; and contribution to the introduction, continued existence, or spread of invasive weeds or non-native invasive species. The Department's list of extraordinary circumstances addresses issues also identified by the DON at 32 CFR 775.6(e), USACE at 32 CFR 775.6(e), DOE at 10 CFR1021.410 (b)(2) and (3), DHS at Instruction Manual # 023-01-001-01,V, B(c), FHWA at 23 CFR 771.117(b), TVA at 18 CFR 1318.201, APHIS at 7 CFR 372.5(d), FSA at 7 CFR 799.33, USFS at 36 CFR. 220.6 and RUS at 7 CFR 1970.52, and therefore, Responsible Officials in the BLM intending to rely on these CXs will review whether the proposed action has the potential to result in significant effects as described in the Department's extraordinary circumstances. Because the BLM, BIA, BOR, NPS, FWS and USGS are bureaus within the Department, the same extraordinary circumstances are used for all six bureaus. The Responsible Official will assess whether an extraordinary circumstance is present. If the Responsible Official cannot rely on a CX to support a decision to authorize or take a particular proposed action due to the presence of one or more extraordinary circumstances, the proposed action must be analyzed in an EA or EIS before a decision is made authorizing the action, consistent with 43 CFR 46.205(c).

Notice to the Public and Documentation of Adoption

This notice notifies the public of the Department's adoption of the DON's, USACE's, DOE's, DHS's, BIA's, BOR's, NPS's, FWS's, USGS's, FHWA's, TVA's, APHIS's, FSA's, USFS's and RUS's CXs for the BLM's use. The notice identifies the types of actions to which the BLM would apply the CXs. The documentation of the adoption will also be available at http://www.blm.gov/programs/planning-and-nepa/what-informs-our-plans/nepa and at https://www.doi.gov/oepc/nepa/categorical-exclusions. The Department will in due course add the adopted CXs to the DOI Handbook of NEPA Implementing Procedures, Appendix 2 Bureau Categorical Exclusions.

Authorities

National Environmental Policy Act of 1969, as amended (42 U.S.C. 4321 et seq.).

Stephen G. Tryon,
Director, Office of Environmental Policy and Compliance.

[FR Doc. 2025-16759 Filed 8-29-25; 8:45 am]

BILLING CODE 4331-27-P